DEPARTMENT OF COMMERCE

International Trade Administration

[A-570-932]

Certain Steel Threaded Rod From the People's Republic of China: Final Results of the Expedited Third Sunset Review of the Antidumping Duty Order

AGENCY: Enforcement and Compliance, International Trade Administration, Department of Commerce.

SUMMARY: The U.S. Department of Commerce (Commerce) finds that revocation of the antidumping duty (AD) order on certain steel threaded rod (steel threaded rod) from the People's Republic of China (China) would be likely to lead to continuation or recurrence of dumping, at the levels indicated in the “Final Results of Sunset Review” section of this notice.

DATES: Applicable May 9, 2025.

FOR FURTHER INFORMATION CONTACT: Karina Holbrook, Trade Agreements Policy and Negotiations, Enforcement and Compliance, International Trade Administration, U.S. Department of Commerce, 1401 Constitution Avenue NW, Washington, DC 20230; telephone: (202) 482-8192.

SUPPLEMENTARY INFORMATION:

Background

On February 3, 2025, Commerce published the notice of initiation of the third five-year review of the Order,¹ pursuant to section 751(c) of the Tariff Act of 1930, as amended (the Act).² On February 19, 2025, Commerce received a notice of intent to participate in this review from Vulcan Threaded Products, Inc. (the petitioner), pursuant to 19 CFR 351.218(d)(1)(i).³ The petitioner claimed interested party status under section 771(9)(C) of the Act, as a manufacturer of a domestic like product in the United States.⁴

¹ See Certain Steel Threaded Rod from the People's Republic of China: Notice of Antidumping Duty Order, 74 FR 17154 (April 14, 2009) (Order).

² See Initiation of Five-Year (Sunset) Reviews, 90 FR 8789 (February 3, 2025).

³ See Petitioner's Letter, “Five-Year (Sunset) Review of the Antidumping Duty Order on Steel Threaded Rod from the People's Republic of China—Petitioner's Notice of Intent to Participate,” dated February 19, 2025.

⁴ Id. at 2.

On March 5, 2024, the petitioner filed an adequate substantive response within the deadline specified in 19 CFR 351.218(d)(3)(i).⁵ Commerce did not receive a substantive response from any respondent interested party, nor was a hearing requested. On March 21, 2025, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of the Order.

⁵ See Petitioner's Letter, “Five-Year (Sunset) Review of the Antidumping Duty Order on Steel Threaded Rod from the People's Republic of China—Petitioner's Substantive Response to Notice of Initiation,” dated March 5, 2025.

⁶ See Commerce's Letter, “Sunset Reviews Initiated on February 3, 2025,” dated March 21, 2025.

Scope of the Orders

The merchandise covered by this Order is steel threaded rod from China. For the full description of the scope of the Order, see the Issues and Decisions Memorandum.⁷

⁷ See Memorandum, “Issues and Decision Memorandum for the Final Results of the Expedited Third Sunset Reviews of the Antidumping Duty Order on Certain Steel Threaded Rod from the People's Republic of China,” dated concurrently with, and hereby adopted by, this notice (Issues and Decision Memorandum).

Analysis of Comments Received

A complete discussion of all issues raised in this sunset review, including the likelihood of continuation or recurrence of dumping in the event of revocation of the Order and the magnitude of the margins likely to prevail if the Order were to be revoked, is provided in the Issues and Decision Memorandum. A list of the topics discussed in the Issues and Decision Memorandum is attached in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

Final Results of Sunset Reviews

Pursuant to sections 751(c)(1), 752(c)(1) and (3) of the Act, Commerce determines that revocation of the Order would be likely to lead to continuation or recurrence of dumping, and that the magnitude of the dumping margins likely to prevail would be weighted-average dumping margins up to 206.00 percent.

Administrative Protective Order (APO)

This notice serves as the only reminder to parties subject to APO of the responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing these final results in accordance with sections 751(c), 752(c), and 777(i)(1) of the Act, and 19 CFR 351.218 and 19 CFR 351.221(c)(5)(ii).

Dated: May 5, 2025.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2025-08165 Filed 5-8-25; 8:45 am]

BILLING CODE 3510-DS-P